DEPARTMENT OF COMMERCE

International Trade Administration

[A-549-821]

Polyethylene Retail Carrier Bags from Thailand: Rescission of Antidumping Duty Administrative Review in Part

AGENCY: Import Administration, International Trade Administration, Department of Commerce.

SUMMARY: On September 22, 2009, in response to requests from interested parties, the Department of Commerce published a notice of initiation of administrative review of the antidumping duty order on polyethylene retail carrier bags from Thailand. The period of review is August 1, 2008, through July 31, 2009. The Department of Commerce is rescinding this review in part.

EFFECTIVE DATE: June 18, 2010.

FOR FURTHER INFORMATION CONTACT: Thomas Schauer, AD/CVD Operations, Office 5, Import Administration, International Trade Administration, U.S. Department of Commerce, 14th Street and Constitution Avenue, NW, Washington, DC 20230; telephone: (202) 482-0410.

SUPPLEMENTARY INFORMATION:

Background

On September 22, 2009, in response to requests from the Polyethylene Retail Carrier Bag Committee and its individual members, Hilex Poly Co., LLC, and Superbag Corporation (the petitioners) and by Thai Plastic Bags Industries Co., Ltd., the Department of Commerce (the Department) published a notice of initiation of administrative review of the antidumping duty order on polyethylene retail carrier bags from Thailand. See Initiation of Antidumping and Countervailing Duty Administrative Reviews and Request for Revocation in Part, 74 FR 48224 (September 22, 2009). On April 19, 2010, the petitioners withdrew their request for an administrative review of Landblue (Thailand) Co., Ltd. (Landblue).

Rescission of Review in Part

In accordance with 19 CFR 351.213(d)(1), the Department will rescind an administrative review “if a party that requested the review withdraws the request within 90 days of the date of publication of notice of initiation of the requested review. The Secretary may extend this time limit if the Secretary decides that it is reasonable to do so.” Although we did not receive the petitioners' withdrawal letter within the 90-day time limit, we determine that it is reasonable to accept this letter of withdrawal because we have not expended significant resources in the conduct of this review and because we received no other requests for the review of Landblue. Accordingly, the Department is rescinding this review in part with respect to Landblue pursuant to 19 CFR 351.213(d)(1). The Department intends to issue appropriate assessment instructions to U.S. Customs and Border Protection 15 days after the date of publication of this notice.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

We are issuing and publishing this rescission in accordance with section 777(i)(1) of the Tariff Act of 1930, as amended, and 19 CFR 351.213(d)(4).

Dated: June 10, 2010.
John M. Andersen,
Acting Deputy Assistant Secretary for Antidumping and Countervailing Duty Operations.

[FR Doc. 2010-14799 Filed 6-17-10; 8:45 am]

BILLING CODE 3510-DS-S